DEPARTMENT OF TRANSPORTATION

Federal Aviation Administration

14 CFR Part 39

[Docket No. FAA-2006-23888; Directorate Identifier 2005-SW-03-AD; Amendment 39-14622; AD 2006-11-17]

RIN 2120-AA64

Airworthiness Directives; Eurocopter France Model AS350B, BA, B1, B2, B3, C, D, and D1 Helicopters

AGENCY: Federal Aviation Administration, DOT.

ACTION: Final rule.

SUMMARY: This amendment adopts a new airworthiness directive (AD) for Eurocopter France (Eurocopter) Model AS350B, BA, B1, B2, B3, C, D, and D1 helicopters that have a Geneva Aviation, Inc. (Geneva) P132 console (console) installed. This AD requires installing right and left side Geneva cyclic control sticks and modifying the cyclic grips and the co-pilot cyclic stand (receptacle). This amendment is prompted by reports that pilots had restricted cyclic stick travel when using Eurocopter factory-installed cyclic sticks in a helicopter modified under a certain Supplemental Type Certificate (STC) for the installation of a Geneva P132 console. The actions specified by this AD are intended to prevent restricting full lateral movement of the cyclic control during high lateral center of gravity (CG) load operations in high cross winds and during slope takeoffs or landings and subsequent loss of control of the helicopter.

DATES: Effective July 7, 2006.

The incorporation by reference of certain publications listed in the regulations is approved by the Director of the Federal Register as of July 7, 2006.

ADDRESSES: You may get the service information identified in this AD from Geneva Aviation, Inc., 20021-80th Ave. South, Kent, Washington 98032; telephone: (800) 546-2210; fax: (800) 546-2220; Internet: http://www.GenevaAviation.com.

Examining the Docket

You may examine the docket that contains this AD, any comments, and other information on the Internet at http://dms.dot.gov, or at the Docket Management System (DMS), U.S. Department of Transportation, 400 Seventh Street SW., Room PL-401, on the plaza level of the Nassif Building, Washington, DC.

FOR FURTHER INFORMATION CONTACT: Vince Massey, Aviation Safety Engineer, FAA, Seattle Aircraft Certification Office, Systems and Equipment Branch, 1601 Lind Ave. SW., Renton, Washington 98055-4056; telephone (425) 917-6475, fax (425) 917-6590.

SUPPLEMENTARY INFORMATION: A proposal to amend 14 CFR part 39 to include an AD for the specified model helicopters was published in the Federal Register on February 28, 2006 (71 FR 9979). That action proposed replacing the right and left side Geneva cyclic control sticks and modifying the cyclic grips and the receptacle.

Geneva has issued Service Bulletin GA107-7, dated June 14, 2005 (SB). The SB describes a condition that pilots may encounter regarding restricted cyclic control stick movement in helicopters that have a Geneva P132 console installed under STC No. SH4747NM. The Geneva center console is wider than the factory-installed Eurocopter console and may limit lateral cyclic movement under certain conditions. The SB specifies replacing the Eurocopter factory-installed pilot (right-side) cyclic stick and co-pilot (left-side) cyclic stick with a Geneva-manufactured right-side cyclic stick, part number (P/N) G12316-26, and left-side cyclic stick, P/N G12324-26. For cyclic sticks with a “Bendix” cyclic grip without any cyclic grip flange, which has a 90-degree bend at the top of the cyclic stick, the SB specifies replacing the Eurocopter factory-installed pilot and co-pilot cyclic sticks with a Geneva-manufactured right-side cyclic stick, P/N G12425-26, and left-side cyclic stick, P/N G12426-26, respectively. The SB also specifies modifying the flange at the base of the cyclic grips and the receptacle to prevent inadvertent installation of the factory original co-pilot cyclic stick.

These helicopter models are manufactured in France and are type certificated for operation in the United States under the provisions of 14 CFR 21.29 and the applicable bilateral agreement. We have reviewed all available information and determined that AD action is necessary for products of these type designs, modified under STC No. SH4747NM, that are certificated for operation in the United States.

Interested persons have been afforded an opportunity to participate in the making of this amendment. No comments were received on the proposal or the FAA's determination of the cost to the public. The FAA has determined that air safety and the public interest require the adoption of the rule as proposed.

The FAA estimates that this AD will affect 122 helicopters of U.S. registry. The required actions will take about 14 work hours per helicopter to accomplish at an average labor rate of $65 per work hour. The Geneva cyclic sticks cost about $300 each or $600 per set. Geneva, the manufacturer of the console, has stated that it will supply left and right side cyclic sticks at no charge to current owners of Geneva P132 consoles, regardless of when they purchased the console. Based on these figures, we estimate the total cost impact of the AD on U.S. operators to be $184,220 to do the replacements and modifications on all 122 helicopters in the fleet or $111,020 assuming the cyclic sticks are provided at no cost to operators.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2006-11-17 Eurocopter France: Amendment 39-14622. Docket No. FAA-2006-23888; Directorate Identifier 2005-SW-03-AD.

Applicability

Model AS350B, BA, B1, B2, B3, C, D, and D1 helicopters, with a Geneva Aviation, Inc. (Geneva) P132 Console installed in accordance with Supplemental Type Certificate No. SH4747NM, certificated in any category.

Compliance

Required within 60 days, unless accomplished previously.

To prevent restricting full lateral movement of the cyclic control during high lateral center of gravity (CG) load operations in high cross winds and during slope takeoffs or landings, and subsequent loss of control of the helicopter, accomplish the following:

(a) Remove the Eurocopter France installed pilot (right-side) and co-pilot (left-side) cyclic control sticks in accordance with paragraph 2.1 of the Instructions section of Geneva Aviation, Inc. Service Bulletin GA107-7, dated June 14, 2005 (SB).

(1) Install Geneva-manufactured cyclic control sticks, part number (P/N) G12316-26 (right side) and P/N G12324-26 (left side), or

(2) For installations with a “Bendix” cyclic grip, which has a 90-degree bend at the top of the cyclic control stick, install Geneva-manufactured cyclic control sticks, P/N G12425-26 (right side) and P/N G12426-26 (left side).

(b) If the base of the cyclic grip has a flange to help support the pilot's hand, modify both the pilot and co-pilot cyclic control grips by removing a ⅜ inch section of the flange in accordance with paragraph 2.2 of the Instructions section of the SB.

(c) Modify the co-pilot cyclic control stand (receptacle) by installing a blind rivet in accordance with paragraph 2.3 of the Instructions section of the SB.

(d) To request a different method of compliance or a different compliance time for this AD, follow the procedures in 14 CFR 39.19. Contact the Manager, Seattle Aircraft Certification Office, FAA, ATTN: Vince Massey, 1601 Lind Ave., SW., Renton, Washington 98055-4056; telephone (425) 917-6475, fax (425) 917-6590, for information about previously approved alternative methods of compliance.

(e) Installing the cyclic stick and modifying the receptacle shall be done by following the specified portions of Geneva Service Bulletin GA107-7, dated June 14, 2005. The Director of the Federal Register approved this incorporation by reference in accordance with 5 U.S.C. 552(a) and 1 CFR part 51. Copies may be obtained from Geneva Aviation, Inc., 20021-80th Ave. South, Kent, Washington 98032; telephone: (800) 546-2210; fax: (800) 546-2220. Copies may be inspected at the National Archives and Records Administration (NARA). For information on the availability of this material at NARA, call 202-741-6030, or go to: http://www.archives.gov/federal_register/code_of_federal_regulations/ibr_locations.html.

(f) This amendment becomes effective on July 7, 2006.

Issued in Fort Worth, Texas, on May 24, 2006.
Scott A. Horn,
Acting Manager, Rotorcraft Directorate, Aircraft Certification Service.

[FR Doc. 06-5003 Filed 6-1-06; 8:45 am]

BILLING CODE 4910-13-P